DEPARTMENT OF LABOR

Scientific Integrity: Statement of Policy

AGENCY: Office of the Secretary, Labor.

ACTION: Soliciting comments on Department of Labor Draft Policy on Scientific Integrity.

SUMMARY: The United States Department of Labor (DOL) is developing its policy on Scientific Integrity in response to the March 9, 2009, Presidential Memorandum on Scientific Integrity, and the December 17, 2010, Memorandum from the Director of the Office of Science and Technology Policy. DOL is soliciting comments on its draft policy.

FOR FURTHER INFORMATION CONTACT: E. Christi Cunningham, Associate Assistant Secretary for Regulatory Policy, U.S. Department of Labor, 200 Constitution Avenue NW., Room S-2312, Washington, DC 20210, cunningham.christi@dol.gov, (202) 693-5959; (this is not a toll-free number). Individuals with hearing impairments may call 1-800-877-8339 (TTY/TDD).

SUPPLEMENTARY INFORMATION: In March of 2009, the President articulated six principles federal agencies should follow to preserve and promote scientific integrity. The President also assigned the Director of the Office of Science and Technology Policy (OSTP) with the creation of guidelines for Federal Agencies to ensure the highest level of integrity in all aspects of the science and technological processes. This Scientific Integrity policy establishes standards for DOL for ensuring accuracy and integrity in all scientific activities informing rulemaking and public policy decisions in accordance with the memoranda from the President and OSTP.

Scientific Integrity of DOL scientific personnel is vital to the public interest and critical to conducting DOL's mission. Scientific activities provide data to inform many of DOL's decision makers regarding the production of leading economic indicators, evaluation of programs funded by DOL, protection of the health and safety of our Nation's workers, and implementation of labor laws that address conditions of employment, benefits and compensation.

Request for Comments: As part of our development of the DOL scientific integrity principles, we are soliciting public comments. Your input is important to us. To facilitate receipt of the information, the Department will create an Internet portal specifically designed to capture your input and suggestions, http://dolscientificintegrity.ideascale.com/. This portal will contain a series of questions designed to gather information on how DOL can best meet these requirements. The portal is expected to open to receive comments on April 11, 2012 and accept comments for 30 days. Please provide responses that are supported with specific examples and data, where possible.

DATES: The portal is expected to open to receive comments starting April 11, 2012. Comments would then need to be received before May 11, 2012.

ADDRESSES: You may submit comments through http://dolscientificintegrity.ideascale.com/.

All comments will be available for public inspection at http://dolscientificintegrity.ideascale.com/.

Questions for the Public: The Department of Labor intends the questions on the portal to represent a starting point for discussion of the scientific integrity principles. The questions are meant to initiate public dialogue, and are not intended to restrict the issues that may be raised or addressed. The questions were developed with the intent to probe a range of areas.

The Department of Labor is issuing this request solely to seek useful information as it develops its policy. While responses to this request do not bind the Department of Labor to any further actions related to the response, all submissions will be made available to the public on http://dolscientificintegrity.ideascale.com/.

Authority: U.S.C. 301, March 9, 2009, Presidential Memorandum on Scientific Integrity, and the December 17, 2010, memorandum from the Director of the Office of Science and Technology Policy.

Dated: April 11, 2012.
William E. Spriggs,
Assistant Secretary for Policy.

[FR Doc. 2012-9198 Filed 4-16-12; 8:45 am]

BILLING CODE P